DEPARTMENT OF AGRICULTURE

Forest Service

Tongass National Forest: Alaska, Kake to Petersburg Transmission Line Intertie

AGENCY: Forest Service, USDA.

ACTION: Corrected Notice of Intent To Prepare an Environmental Impact Statement; Correction

SUMMARY: The Department of Agriculture, Forest Service, will prepare an environmental impact statement (EIS) on a proposal to construct, operate and maintain a new electrical transmission line intertie that would extend west across the Tongass National Forest from the Petersburg area to the community of Kake. The proposed action is to construct a new transmission line, and associated features, that would transmit power at either 69 or 138 kilovolt (kV) and consist of single wood-pole structures with horizontal post insulators, with average span of lengths between poles of 350 to 400 feet. The proposed project would also include a 24-strand fiber optic communication cable. Construction access would be via existing roads, temporary shovel trails and matting panels, and temporary access spurs, with helicopter support as needed. The proposed project would cross National Forest System (NFS) lands in the Petersburg Ranger District of the Tongass National Forest. The length of the proposed electrical transmission line is approximately 60 miles and would follow a route identified as a Transportation and Utility Systems (TUS) land use designation (LUD) corridor; labeled “Potential Power Transmission Corridor” on the 2008 Tongass National Forest Land and Resource Management Plan (Forest Plan) LUD map. An estimated 59 percent, or 35.2 miles, of the overhead portion of the proposed transmission line would follow existing roads. No new road segments would be built; existing roads would be used for long-term maintenance access where possible.

DATES: Comments concerning the scope of the analysis must be received by August 27, 2014. The draft environmental impact statement is expected September 2014 and the final environmental impact statement is expected May 2015.

ADDRESSES: You may comment on the project in the following ways: Send written comments to Petersburg Ranger District, Tongass National Forest, P.O. Box 1328, Petersburg, AK. 99833 ATTN: Kake-Petersburg Intertie Project or hand-delivered to 12 N. Nordic Drive, Petersburg, AK. Comments may also be sent via email to comments-alaska-tongass-petersburg@fs.fed.us, with “Kake-Petersburg Intertie Project” in the subject line. Comments can be sent via facsimile to 907-772-5995.

FOR FURTHER INFORMATION CONTACT: Questions about the proposal and EIS should be directed to Tom Parker, Petersburg Ranger District, Tongass National Forest, P.O. Box 1328, Petersburg, AK 99833 or (907) 772-5974. Individuals who use telecommunication devices for the deaf (TDD) may call the Federal Information Relay Service (FIRS) at 1-800-877-8339 between 8 a.m. and 8 p.m., Eastern Time, Monday through Friday.

SUPPLEMENTARY INFORMATION: Background: The Southeast Alaska Power Agency (SEAPA), the project proponent, is a joint action agency organized and existing pursuant to the laws of the State of Alaska. SEAPA's member utilities (Ketchikan, Wrangell and Petersburg) provide electric utility services to their respective service areas utilizing power generated by SEAPA's facilities. These three communities are part of SEAPA's interconnected network, which include the Swan Lake and Lake Tyee hydroelectric projects and approximately 175 miles of transmission line that span from Ketchikan to Petersburg. The proposed Kake to Petersburg Intertie (KPI) project would connect Kake to SEAPA's interconnected network and provide relatively low cost electricity to the community of Kake.

Purpose and Need for Action

The community of Kake is presently served by an isolated electric system that depends upon high-cost, diesel generation. This isolated system is served by a diesel plant that consists of three diesel generators. High operation and maintenance expenses and high fuel costs make diesel generators costly to operate. In 2011, the full retail cost of power in Kake was more than five times the rate in the larger communities of Petersburg, Ketchikan, and Wrangell, and is currently subsidized for residential customers and public facilities through the State of Alaska's Power Cost Equalization (PCE) program, which is funded on an annual basis by the State legislature. Commercial customers are not eligible to participate in the PCE program, who pay the full retail cost for power in Kake. The cost of electricity in Kake negatively affects the economic well-being of the community and is a disincentive to economic development.

The need for this action is established by the Forest Service's responsibility under the Federal Land Policy and Management Act (FLPMA) to respond to an application for a right-of-way (43 U.S.C. 1701).

Proposed Action

The Forest Service proposes to issue a special use permit to authorize SEAPA to construct, operate, and maintain the proposed KPI Project across NFS lands. The Proposed Action would construct, operate and maintain a new electric transmission line and associated facilities to connect the community of Kake with the existing SEAPA interconnected network in Petersburg, AK. The transmission line would extend north and then west for approximately 60 miles. The line would be built to transmit either 69 or 138 kV and consist of single wood-pole structures with horizontal post insulators, with an average span length of 350 to 400 feet between poles. The proposed transmission line would originate at the existing SEAPA substation south of Petersburg, and extend north and northeast toward Frederick Sound. The transmission line would cross Frederick Sound and the mouth of the Wrangell Narrows via a 1.2 mile horizontal directional bore that would place the cable below the seafloor. Once on Kupreanof Island, the transmission line would follow the TUS LUD Potential Power Transmission Corridor north through Inventoried Roadless Area 213 (Five Mile) and then west through Inventoried Roadless Areas 212 (Missionary) and 211 (North Kupreanof). From Inventoried Roadless Area 211, the transmission line would continue west and northwest to Kake where it would terminate at a new substation located near the existing powerhouse. The majority of the route is on NFS lands, the route also crosses lands owned by the Alaska Department of Natural Resources, the Sealaska Corporation, Kake Tribal Corporation, the City of Kake, and Petersburg Borough.

Possible Alternatives

The previous Notice of Intent (NOI) for the Kake-Petersburg Intertie Transmission Line (May 7, 2010; Federal Register Vol. 75, No. 88, pg. 25195-25197) identified a Center-South route as one of two alternatives to the Proposed Action. This route would connect to the existing Tyee transmission line, approximately 8 miles south of Petersburg, and requires a tap or switch yard. This route crosses Wrangell Narrows, proceeds west across the Lindenberg Peninsula, crosses Duncan Canal and continues northwest to terminate in Kake at a new substation located near the existing powerhouse. As with the Proposed Action, the majority of the project would fall on National Forest System lands but would also cross over lands owned and managed by the Borough of Petersburg, Sealaska Corporation, Kake Tribal Corporation, and the city of Kake.

In addition to the Center-South route, the previous NOI identified two Northern Route options: Options 1 and 2. The Northern Route, Option 1 started at the existing SEAPA substation south of Petersburg and followed an existing gravel road 3.5 miles east-northeast to Frederick Sound, near Sandy Beach Park. From there, Option 1 crossed Frederick Sound via a 3.1-mile-long submarine cable that would come ashore near Prolewy Point on the east shore of Kupreanof Island. This proposed crossing is the only difference between this option and the Proposed Action. Like the Center-South route, this option is being considered as an alternative to the Proposed Action.

The Northern Route, Option 2 originated at the same existing SEAPA substation, but proceeded north along Mitkof Highway to near the narrowest point of the Wrangell Narrows. Crossing the Wrangell Narrows, via a horizontal directional bore or buried cable that would extend approximately 1,400 feet, this option then continued north overhead, past the city of Petersburg and across Petersburg Creek. This route has been eliminated from further consideration due to the potential impacts on the unroaded character of the city of Kupreanof, and potential impacts to Petersburg Creek, an important area for fish and wildlife, recreation and tourism and subsistence.

Responsible Official

Forrest Cole, Forest Supervisor, Tongass National Forest, Federal Building, Ketchikan, AK 99901.

Nature of Decision To Be Made

The Forest Supervisor is the responsible official for this action and will decide whether or not to permit the construction of the proposed electric transmission line across NFS lands, as well as the route that will be followed, and any mitigation measures and/or monitoring, as appropriate. The decision will be based on the information disclosed in the EIS. The responsible official will consider comments, responses, the disclosure of environmental consequences, and applicable laws, regulations and policies in making the decision and will state the rationale in the Record of Decision.

Preliminary Issues

The Proposed Action and the Center-South route both cross through inventoried roadless areas. Road building is not anticipated. However, if the construction of the transmission line is allowed, it will reduce the inventoried acres and could affect roadless values. Preliminary issues identified through scoping for this project included concerns that the unroaded character of the city of Kupreanof would be affected by the presence of a nearby electric transmission line which could have impacts on the quality of life for the residents. Concerns were also expressed about potential impacts to Petersburg Creek, an important area for fish and wildlife, recreation and tourism, and subsistence activities. These two issues have been mitigated by dropping the Northern Route, Option 2 as an alternative.

Permits or Licenses Required

Forest Service: Special use permit to construct, operate and maintain the proposed transmission line across NFS lands. Permits to survey the authorized right-of-way.

U.S. Army Corps of Engineers: Approval of discharge of dredged or fill material into the waters of the United States (404 of the Clean Water Act). Approval of construction or work in navigable of the United States which includes Wrangell Narrows and Duncan Canal, depending on the alternative selected.

EPA: Stormwater discharge permits.

U.S. Coast Guard: Coordination to ensure appropriate clearance for lines over water; generally handled through the Corps' permitting authority.

Federal Aviation Administration: Notice of proposed construction.

Alaska DNR: Authorization for occupancy and use of tidelands and submerged lands. Right-of-way to construct the proposed transmission line. ANILCA 906(k) compliance.

ADEC: Certificate of Reasonsable Assurance. Certification of compliance with the Alaska Water Qualtiy Standards. Solid Waste Disposal Permit.

ADF&G: Habitat protection permits addressing conditions and timing of stream crossings and maintenance of vegetation. Title 16 fish habitat permit for any disturbance of anadromous fish streams.

Scoping Process

This NOI re-initiates the scoping process, which guides the development of the EIS. Public participation will be especially important at several points during the analysis. The Petersburg Ranger District is seeking information and comments from Federal, State, and local agencies, tribal organizations, individuals, businesses and organizations that may be interesed in, or affected by, the proposed project. This project was originally scoped under the NOI on May 7, 2010. This correction notice is filed since the Proposed Action has changed. Additionally the project was originally scoped under the 36 CFR 215 Notice, Comment and Appeal Procedures. The 215 appeal procedures have been replaced by the Project-Level Pre-decisional Administrative Review Process, 36 CFR Part 218 as of March 27, 2013. The “objection process” allows parties who have submitted timely, specific written comments during Forest Service-announced public comment periods, such as this scoping period or when the Draft EIS goes out for public comment, to object to the decision being drafted. No public meetings are to be held with the release of this NOI. Public meetings will be held in Petersburg and Kake in conjunction with the release of the Draft EIS in September.

It is important that reviewers provide their comments at such times and in such manner that they are useful to the agency's preparation of the EIS. Therefore, comments should be provided prior to the close of the comment period and should clearly articulate the reviewer's concerns and contentions. Comments received in response to this solicitation, including names and addresses of those who comment, will be part of the public record for this proposed action. Comments submitted during the earlier scoping period are part of the project record and do not need to be re-submitted.

Dated: July 18, 2014.
Forrest Cole,
Forest Supervisor.

[FR Doc. 2014-17669 Filed 7-25-14; 8:45 am]

BILLING CODE 3411-15-P